DEPARTMENT OF ENERGY

Federal Energy Regulatory Commission

Combined Notice of Filings

Take notice that the Commission has received the following Natural Gas Pipeline Rate and Refund Report filings:

Filings Instituting Proceedings

Docket Numbers: RP13-130-000.

Applicants: CenterPoint Energy Gas Transmission Comp.

Description: Annual Report of Total Penalty Revenue Credits of CenterPoint Energy Gas Transmission Company, LLC.

Filed Date: 10/4/12.

Accession Number: 20121004-5058.

Comments Due: 5 p.m. ET 10/16/12.

Docket Numbers: RP13-131-000.

Applicants: CenterPoint Energy Gas Transmission Comp.

Description: Annual Report of Linked Firm Service Penalty Revenue Credits of CenterPoint Energy Gas Transmission Company, LLC.

Filed Date: 10/4/12.

Accession Number: 20121004-5059.

Comments Due: 5 p.m. ET 10/16/12.

Docket Numbers: RP13-132-000.

Applicants: CenterPoint Energy—Mississippi River T.

Description: Penalty Revenue Crediting Filing of CenterPoint Energy—Mississippi River Transmission, LLC.

Filed Date: 10/4/12.

Accession Number: 20121004-5061.

Comments Due: 5 p.m. ET 10/16/12.

Docket Numbers: RP13-148-000.

Applicants: Iroquois Gas Transmission System, L.P.

Description: 10/10/12 Negotiated Rates—Hess (RTS) to be effective 11/1/2012.

Filed Date: 10/10/12.

Accession Number: 20121010-5130.

Comments Due: 5 p.m. ET 10/22/12.

Docket Numbers: RP13-149-000.

Applicants: Iroquois Gas Transmission System, L.P.

Description: 10/10/12 Negotiated Rates—Tenaska (RTS) to be effective 11/1/2012.

Filed Date: 10/10/12.

Accession Number: 20121010-5131.

Comments Due: 5 p.m. ET 10/22/12.

Docket Numbers: RP13-150-000.

Applicants: Rendezvous Pipeline Company, LLC.

Description: Rendezvous Pipeline Company, LLC submits Notification of Change in Market Power Analysis and Request for Renewed Approval of Market Based Rates.

Filed Date: 10/10/12.

Accession Number: 20121010-5193.

Comments Due: 5 p.m. ET 10/22/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 11, 2012.
Nathaniel J. Davis, Sr.,
Deputy Secretary.

[FR Doc. 2012-25530 Filed 10-16-12; 8:45 am]

BILLING CODE 6717-01-P